DEPARTMENT OF ENERGY

Federal Energy Regulatory Commission

Combined Notice of Filings

Take notice that the Commission has received the following Natural Gas Pipeline Rate and Refund Report filings:

Docket Number: PR21-49-001.

Applicants: Black Hills Energy Arkansas, Inc.

Description: Submits tariff filing per 284.123(b),(e)+(g): BHEA Amended SOC Filing to be effective 6/1/2021 under PR21-49 Filing.

Filed Date: 7/30/2021.

Accession Number: 202107305086.

Comments Due: 5 p.m. ET 8/20/2021.

284.123(g) Protests Due: 5 p.m. ET 8/20/2021.

Docket Number: PR21-57-000.

Applicants: Louisville Gas and Electric Company.

Description: Submits tariff filing per 284.123(b),(e)/: Revised Statement of Operating Conditions and Exhibit A Statement of Rates to be effective 7/1/2021.

Filed Date: 7/30/2021.

Accession Number: 202107305004.

Comments/Protests Due: 5 p.m. ET 8/20/2021.

Docket Number: PR21-58-000.

Applicants: Bay Gas Storage Company, LLC.

Description: Submits tariff filing per 284.123(b)(2)+(g): Bay Gas Storage Petition for Rate Approval to be effective 8/1/2021.

Filed Date: 7/30/2021.

Accession Number: 202107305171.

Comments Due: 5 p.m. ET 8/20/2021.

284.123(g) Protests Due: 5 p.m. ET 9/28/2021.

Docket Numbers: RP21-975-000.

Applicants: Columbia Gas Transmission, LLC.

Description: § 4(d) Rate Filing: TCO August 21 Negotiated Rate Agreements to be effective 8/1/2021.

Filed Date: 7/27/21.

Accession Number: 20210727-5046.

Comments Due: 5 p.m. ET 8/9/21.

Docket Numbers: RP21-976-000.

Applicants: Transcontinental Gas Pipe Line Company, LLC.

Description: § 4(d) Rate Filing: Rate Schedule S-2 Tracker Filing eff 8-1-2021 to be effective 8/1/2021.

Filed Date: 7/27/21.

Accession Number: 20210727-5075.

Comments Due: 5 p.m. ET 8/9/21.

Docket Numbers: RP21-977-000.

Applicants: Dauphin Island Gathering Partners.

Description: Dauphin Island Gathering Partners submits 2020-2021 Cash Out Report.

Filed Date: 7/27/21.

Accession Number: 20210727-5113.

Comments Due: 5 p.m. ET 8/9/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 2, 2021.
Debbie-Anne A. Reese,
Deputy Secretary.

[FR Doc. 2021-16809 Filed 8-5-21; 8:45 am]

BILLING CODE 6717-01-P